DEPARTMENT OF HOUSING AND URBAN DEVELOPMENT

[Docket No. FR-5173-N-16]

Affirmatively Furthering Fair Housing: Withdrawal of Notice Extending the Deadline for Submission of Assessment of Fair Housing for Consolidated Plan Participants

AGENCY: Office of the Assistant Secretary for Fair Housing and Equal Opportunity, HUD.

ACTION: Notice; withdrawal.

SUMMARY: This notice withdraws HUD's January 5, 2018, notice extending the submission deadline for an Assessment of Fair Housing (AFH) by local government consolidated plan program participants.

DATES: Applicable May 23, 2018, the document published at 83 FR 683 on January 5, 2018, is withdrawn.

FOR FURTHER INFORMATION CONTACT: Krista Mills, Deputy Assistant Secretary, Office of Policy, Legislative Initiatives, and Outreach, Office Fair Housing and Equal Opportunity, Department of Housing and Urban Development, 451 7th Street SW, Room 5246, Washington, DC 20410; telephone number 202-402-6577. Individuals with hearing or speech impediments may access this number via TTY by calling the toll-free Federal Relay Service during working hours at 1-800-877-8339.

SUPPLEMENTARY INFORMATION: HUD's Affirmatively Furthering Fair Housing (AFFH) regulations (24 CFR 5.150-5.168) provide that program participants must submit an Assessment of Fair Housing (AFH) using a HUD-provided assessment tool. See e.g., 24 CFR 5.154. The regulations further provide a schedule of time frames by which different types of program participants must submit an assessment using the appropriate HUD-provided tool. See 24 CFR 5.160(a). These time frames are connected to an individual program participant's multi-year consolidated planning process. On January 5, 2018, at 83 FR 683, HUD published a Federal Register notice extending the time frame applicable to local government consolidated plan program participants. HUD is withdrawing the January 5, 2018, notice. If HUD later finds it prudent to revise the regulations, including by revising the submission schedule, HUD will publish a notice of proposed rulemaking to that effect for public comment.

Dated: May 18, 2018.
Anna Maria Farías,
Assistant Secretary for Fair Housing and Equal Opportunity.

[FR Doc. 2018-11143 Filed 5-21-18; 4:15 pm]

BILLING CODE 4210-67-P